DEPARTMENT OF THE INTERIOR

Fish and Wildlife Service

[FWS-HQ-IA-2015-N110; FXIA16710900000-156-FF09A30000]

Endangered Species; Receipt of Applications for Permit

AGENCY: Fish and Wildlife Service, Interior.

ACTION: Notice of receipt of applications for permit.

SUMMARY: We, the U.S. Fish and Wildlife Service, invite the public to comment on the following applications to conduct certain activities with endangered species. With some exceptions, the Endangered Species Act (ESA) prohibits activities with listed species unless Federal authorization is acquired that allows such activities.

DATES: We must receive comments or requests for documents on or before February 23, 2015.

ADDRESSES: Brenda Tapia, U.S. Fish and Wildlife Service, Division of Management Authority, Branch of Permits, MS: IA, 5275 Leesburg Pike, Falls Church, VA 22041; fax (703) 358-2281; or email DMAFR@fws.gov.

FOR FURTHER INFORMATION CONTACT: Brenda Tapia, (703) 358-2104 (telephone); (703) 358-2281 (fax); DMAFR@fws.gov (email).

SUPPLEMENTARY INFORMATION:

I. Public Comment Procedures

A. How do I request copies of applications or comment on submitted applications?

Send your request for copies of applications or comments and materials concerning any of the applications to the contact listed under ADDRESSES. Please include the Federal Register notice publication date, the PRT-number, and the name of the applicant in your request or submission. We will not consider requests or comments sent to an email or address not listed under ADDRESSES. If you provide an email address in your request for copies of applications, we will attempt to respond to your request electronically.

Please make your requests or comments as specific as possible. Please confine your comments to issues for which we seek comments in this notice, and explain the basis for your comments. Include sufficient information with your comments to allow us to authenticate any scientific or commercial data you include.

The comments and recommendations that will be most useful and likely to influence agency decisions are: (1) Those supported by quantitative information or studies; and (2) Those that include citations to, and analyses of, the applicable laws and regulations. We will not consider or include in our administrative record comments we receive after the close of the comment period (see DATES) or comments delivered to an address other than those listed above (see ADDRESSES).

B. May I review comments submitted by others?

Comments, including names and street addresses of respondents, will be available for public review at the street address listed under ADDRESSES. The public may review documents and other information applicants have sent in support of the application unless our allowing viewing would violate the Privacy Act or Freedom of Information Act. Before including your address, phone number, email address, or other personal identifying information in your comment, you should be aware that your entire comment—including your personal identifying information—may be made publicly available at any time. While you can ask us in your comment to withhold your personal identifying information from public review, we cannot guarantee that we will be able to do so.

II. Background

To help us carry out our conservation responsibilities for affected species, and in consideration of section 10(a)(1)(A) of the Endangered Species Act of 1973, as amended (16 U.S.C. 1531 et seq.), along with Executive Order 13576, “Delivering an Efficient, Effective, and Accountable Government,” and the President's Memorandum for the Heads of Executive Departments and Agencies of January 21, 2009—Transparency and Open Government (74 FR 4685; January 26, 2009), which call on all Federal agencies to promote openness and transparency in Government by disclosing information to the public, we invite public comment on these permit applications before final action is taken.

III. Permit Applications

A. Endangered Species

Applicant: State of Hawaii DLNR/DOFAW, Honolulu, HI; PRT-47832B

The applicant requests a permit to import 800 live whole plants and 133 phytatrays of gametophytes of Diellia (Diellia erecta), 951 live whole plants and 121 phytatrays of gametophytes of Diellia plants (Diellia mannii), and 1030 live whole plants and 117 phytatrays of gametophytes of Diellia plants (Diellia pallida) for the purpose of scientific research. This notification covers activities to be conducted by the applicant over a 5-year period.

Applicant: Disney's Animal Kingdom, Bay Lake, FL; PRT-42545B

The applicant requests a permit to import one captive-born Mandrill (Mandrillus sphinx) for the purpose of enhancement of the survival of the species. This notification covers activities to be conducted by the applicant over a 1-year period.

Applicant: Friends of the Zoo, Inc., Kansas City Zoo, Kansas City, MO; PRT-36026B

The applicant requests a permit to import one female captive born white-cheeked gibbon (Nomascus leucogenys) from the Perth Zoo, South Perth, Australia, for the purpose of enhancement of the species through captive propagation and conservation education.

Applicant: Charles Mercer, dba NBJ Zoological Park, Spring Branch, TX; PRT-751619

The applicant requests a captive-bred wildlife registration under 50 CFR 17.21(g) for species listed below to enhance the species' propagation or survival. This notification covers activities to be conducted by the applicant over a 5-year period.

Species

Arabian oryx (Oryx leucoryx)

Scimitar-horned (Oryx dammah)

Dama gazelle (Nanger dama)

Ring-tailed lemur (Lemur catta)

Brown lemur (Lemur fulvus fulvus)

Diana monkey (Cercopithecus diana)

Lar Gibbon (Hylobates lar)

Applicant: Wild Wilderness Drive-Through Safari, Gentry, AR; PRT-28258A

The applicant request the renewal of a captive-bred wildlife registration under 50 CFR 17.21(g) for the following species, to enhance their propagation or survival. This notification covers activities to be conducted by the applicant over a 5-year period.

Species

Ring-tailed lemur (Lemur catta)

Black and white ruffed lemur (Varecia variegata)

Brown lemur (Eulemur fulvus)

Cottontop tamarin (Saguinus oedipus)

Mandrill (Mandrillus sphinx)

Leopard (Panthera pardus)

Onager or kulan (Equus hemionus)

Przewalski's horse (Equus przewalskii)

Arabian oryx (Oryx leucoryx)

Red lechwe (Kobus leche)

Golden parakeet (Guaruba guarouba)

Radiated tortoise (Astrochelys radiata)

Galapagos tortoise (Chelonoidis nigra)

Applicant: National Aviary in Pittsburgh, Pittsburgh, PA; PRT-703721

The applicant request the renewal of a captive-bred wildlife registration under 50 CFR 17.21(g) for the following species, to enhance their propagation or survival. This notification covers activities to be conducted by the applicant over a 5-year period.

Species

Golden parakeet (Guaruba guarouba)

Rothschild's starling (Leucopsar rothschildi)

White-naped crane (Grus vipio)

Japanese crane (Grus japonensis)

Andean condor (Vultur gryphus)

Pink pigeon (Columba mayeri)

Hooded parrot (Psephotus dissimilis)

Red siskin (Carduelis cucullata)

Applicant: Jordan Mercer, Micanopy, FL; PRT-18705B

The applicant requests an amendment of their captive-bred wildlife registration under 50 CFR 17.21(g) to add Galapagos tortoise (Chelonoidis nigra) to their registration to enhance the species' propagation or survival. This notification covers activities to be conducted by the applicant over a 5-year period.

Applicant: Lucky 7 Exotics Ranch, Eden, TX; PRT-70466A

The applicant requests an amendment of their permit authorizing interstate and foreign commerce, export, and cull of excess Arabian oryx (Oryx leucoryx), barasingha (Rucervus duvaucelii), and red lechwe (Kobus leche), from the captive herd maintained at their facility, for the purpose of enhancement of the survival of the species. This notification covers activities to be conducted by the applicant over a 5-year period.

Applicant: Peter Stein, South Windsor, CT; PRT-165944

The applicant request the renewal of a captive-bred wildlife registration under 50 CFR 17.21(g) for radiated tortoise (Geochelone radiata) to enhance the species propagation or survival. This notification covers activities to be conducted by the applicant over a 5-year period.

Applicant: Minnesota Zoological Gardens, Apply Valley, MN; PRT-50631B

The applicant requests a permit to import one male captive-bred Amur tiger (Panthera tigris altaica), for the purpose of enhancement of the survival of the species through zoological display and propagation.

Multiple Applicants

The following applicants each request a permit to import the sport-hunted trophy of one male bontebok (Damaliscus pygargus pygargus) culled from a captive herd maintained under the management program of the Republic of South Africa, for the purpose of enhancement of the survival of the species.

Applicant: William Lehrer, Kingswood, TX; PRT-48446B

Applicant: Nicholas Sackman, Sleepy Hollow, NY; PRT-46358B

Applicant: Elizabeth Krottinger, Wichita Falls, TX; PRT-43489B

Applicant: Austin Nick, Sands Point, NY; PRT-51146B

Applicant: Turner Butts, Spring, TX; PRT-54323B

Applicant: Joseph Borgesen, Clarkston, MI; PRT-54411B

Applicant: James Pollard, Nipomo, CA; PRT-52812B

Applicant: William Bachenberg, Allentown, PA; PRT-53625B

Applicant: Essa Kawaja, Houston, TX; PRT-52838B

Brenda Tapia,
Program Analyst/Data Administrator, Branch of Permits, Division of Management Authority.

[FR Doc. 2015-00916 Filed 1-21-15; 8:45 am]

BILLING CODE 4310-55-P